DEPARTMENT OF TREASURY

Internal Revenue Service

Taxpayer Advocacy Panel Meeting Cancellation

AGENCY: Internal Revenue Service (IRS), Treasury.

ACTION: Notice of meeting cancellation.

SUMMARY: Notice is hereby given of the cancellation of the open meeting of the Taxpayer Advocacy Panel Taxpayer Burden Reduction Project Committee scheduled for Wednesday, March 21, 2012 at 2:30 p.m. Eastern Time via teleconference, which was originally published in the Federal Register on February 14, 2012, (Volume 77, Number 30, Page 8329).

The meeting is cancelled pending renewal of the Taxpayer Advocacy Panel Charter.

FOR FURTHER INFORMATION CONTACT: Audrey Y. Jenkins at 1-888-912-1227 or (718) 488-2085.

Dated: March 14, 2012.
Shawn Collins,
Director, Taxpayer Advocacy Panel.

[FR Doc. 2012-6750 Filed 3-21-12; 8:45 am]

BILLING CODE 4830-01-M